DEPARTMENT OF JUSTICE

Notice of Lodging of Addendum to Consent Decree Under the Clean Air Act

Under 28 CFR 50.7, notice is hereby given that on February 11, 2002, a proposed Addendum to the Consent Decree which will modify a settlement previously entered by the Court on March 19, 2001 in United States and People of the State of Illinois v. Archer Daniels Midland Company (CD Illinois), (Civil No. 00-2338), was lodged with the United States District Court for the Central District of Illinois. The Consent Decree resolved claims on behalf of the United States Environmental Protection Agency (“EDPA”) and the Illinois Environmental Protection Agency (“IEPA”) against the Archer Dainels Midland Company (“ADM”). The Complaint, which was filed simultaneously with the lodging of the Decree, alleged violations of the Prevention of Significant Deterioration (“PSD”) requirements of Part C of the Clean Air Act (the “CAA”), 42 U.S.C. 7470-7492, and the regulations promulgated thereunder at 40 CFR 52.21 (the “PSD Rules”) at the Decatur Illinois plant.

Under the Addendum to the Consent Decree, ADM will install further controls on feed dryers #5 and #6 for more complete reduction of PM and will implement new technology for the control of volatile organic compound (“VOC”) emissions from these units by no later than September 30, 2003. The Addendum also establishes interm limits to ensure that PM emissions are minimized pending the installation of the additional controls. The State of Illinois is joining with the United States in this action as a signatory to the Addendum.

The Department of Justice will receive for a period of thirty (30) days from the date of this publication comments relating to the Addendum to the Consent Decree. Comments should be addressed to the Assistant Attorney General, Environment and Natural Resources Division, PO Box 7611, U.S. Department of Justice, Washington, DC 20044-7611, and refer on its face to United States and People of the State of Illinois v. Archer Daniels Midland Company, D.J. Ref. 90-5-2-1-2035/2.

The Consent Decree may be examined at the Office of the United States Attorney, Central District of Illinois, 600 East Monroe Street, Springfield, Illinois 62705 and at EPA Region 5, 77 West Jackson Boulevard, Chicago, Illinois 60604-3590. A copy of the Addendum may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $2.75 (25 cents per page reproduction cost) payable to the U.S. Treasury. The check should refer to United States and People of the State of Illinois v. Archer Daniels Midland Company, D.J. Ref. 90-5-2-1-2035/2.

Robert Maher,
Assistant Chief, Environmental Enforcement Section, Environment and Natural Resources, Division.

[FR Doc. 02-4312 Filed 2-21-02; 8:45 am]

BILLING CODE 4410-15-M